DEPARTMENT OF COMMERCE

National Oceanic and Atmospheric Administration

50 CFR Part 300

[RTID 0648-XF034]

Pacific Halibut Fisheries of the West Coast; 2025 Catch Sharing Plan; Inseason Action

AGENCY: National Marine Fisheries Service (NMFS), National Oceanic and Atmospheric Administration (NOAA), Commerce.

ACTION: Temporary rule; inseason adjustment; request for comments.

SUMMARY: NMFS announces inseason action for the Pacific halibut recreational fishery in the International Pacific Halibut Commission's (IPHC) regulatory Area 2A. This action adds fishing dates in August and September in the Columbia River and Washington subareas and transfers allocation from the Oregon Central Coast subarea to the Columbia River subarea. These actions are intended to provide opportunity for anglers and are necessary to achieve the overall recreational fishery allocation in the Pacific Fishery Management Council's (Council) 2025 Pacific Halibut Catch Sharing Plan.

DATES: Effective August 16, 2025, through September 30, 2025 in the Washington and Columbia River subareas, and August 16, 2025, through October 31, 2025 in the Oregon Central Coast subarea. Comments due on or before August 26, 2025.

ADDRESSES: Submit your comments, identified by NOAA-NMFS-2024-0139, by either of the following methods:

• Electronic Submission: Submit all electronic public comments via the Federal e-Rulemaking Portal. Go to https://www.regulations.gov and enter NOAA-NMFS-2024-0139 in the Search box. Click on the “Comment” icon, complete the required fields, and enter or attach your comments.

• Mail: Submit written comments to Jennifer Quan, Regional Administrator, c/o Heather Fitch, West Coast Region, NMFS, 501 W Ocean Blvd., Long Beach, CA 90802.

Instructions: NMFS may not consider comments if they are sent by any other method, to any other address or individual, or received after the comment period ends. All comments received are a part of the public record and NMFS will post them for public viewing on https://www.regulations.gov without change. All personal identifying information (e.g., name, address, etc.), confidential business information, or otherwise sensitive information submitted voluntarily by the sender is publicly accessible. NMFS will accept anonymous comments (enter “N/A” in the required fields if you wish to remain anonymous).

Docket: This rule is accessible via the internet at the Office of the Federal Register website at https://www.federalregister.gov. Background information and documents are available at the NOAA Fisheries website at https://www.fisheries.noaa.gov/action/2025-pacific-halibut-recreational-fishery and at the Council's website at https://www.pcouncil.org. Other comments received may be accessed through https://www.regulations.gov.

FOR FURTHER INFORMATION CONTACT: Heather Fitch, (360) 867-8608, or heather.fitch@noaa.gov.

SUPPLEMENTARY INFORMATION:

Background

On April 2, 2025, NMFS published a final rule (90 FR 14422) implementing the 2025 Area 2A recreational (sport) fishing dates (fishing periods) and subarea allocations. The final rule (90 FR 14422, April 2, 2025) stated that, if sufficient subarea allocations remain for at least another full day of fishing after June 30, NMFS may take inseason action to reopen the Columbia River and Washington subareas in August, up to 7 days per week, through September. Pacific halibut regulations for Area 2A provide NMFS with the authority to make inseason modifications to recreational fishing periods and subarea allocations (50 CFR 300.63(c)(6)(ii)), following consultation with the Council, IPHC and the affected states. Inseason modifications may be implemented to allow for allocation objectives to be met, as long as they do not result in exceeding the allocation for the area (50 CFR 300.63(c)(6)(i)).

In accordance with 50 CFR 300.63(c), inseason actions are announced in the Federal Register and also on the NMFS hotline at (206) 526-6667 or (800) 662-9825. Weekly catch reports are available on their respective state Fish and Wildlife agency websites. NMFS will continue to monitor recreational catch estimates obtained via state sampling procedures until NMFS has determined that there is not sufficient subarea allocation for another full day of fishing or until there are no more open fishing dates, whichever is earlier.

After consulting with the Washington Department of Fish and Wildlife (WDFW) and the Oregon Department of Fish and Wildlife (ODFW), and other appropriate entities, NMFS has determined that the following actions are necessary to meet the management objective of achieving, but not exceeding, the Area 2A recreational fishery subarea allocations. These actions are intended to provide opportunity for anglers to achieve the overall Area 2A recreational fishery allocation.

Inseason Actions

Washington Puget Sound and the U.S. Convention Waters in the Strait of Juan de Fuca (Puget Sound Subarea)

The Puget Sound subarea recreational fishery opened on April 3, 2025. Through June 30, 2025, anglers in the Puget Sound subarea harvested 69,134 pounds (31.36 metric tons (mt)) of the 79,772-pound (36.18-mt) allocation, leaving 10,638 pounds (4.83 mt) remaining (13 percent). Sufficient allocation remains for at least another full day of fishing, therefore the Puget Sound subarea will be open for 7 days per week from August 16 through September 30, 2025, or until there is not sufficient allocation for another full day of fishing and the area is therefore closed.

Washington North Coast Subarea

The North Coast subarea recreational fishery opened on May 1, 2025. Through June 30, 2025, anglers in the North Coast subarea harvested 87,690 pounds (39.78 mt) of the 130,409-pound (59.15-mt) allocation, leaving 42,719 pounds (19.38 mt) remaining (33 percent). Sufficient allocation remains for at least another full day of fishing, therefore the North Coast subarea will be open for 7 days per week from August 16 through September 30, 2025, or until there is not sufficient allocation for another full day of fishing and the area is therefore closed.

Washington South Coast Subarea

The South Coast subarea recreational fishery opened on May 1, 2025. Through June 30, 2025, anglers in the South Coast subarea harvested 36,675 pounds (16.64 mt) of the 65,117-pound (29.54-mt) allocation, leaving 28,443 pounds (12.90 mt) remaining (44 percent). Sufficient allocation remains for at least another full day of fishing, therefore the South Coast subarea will be open Sunday through Friday, August 17 through September 30, 2025, as follows:

• August 17-22, 24-29, and 31;

• September 1-5, 7-12, 14-19, 21-26, and 28-30; or

• until there is not sufficient allocation for another full day of fishing and the area is therefore closed.

Columbia River Subarea

The Columbia River subarea recreational fishery opened on May 1, 2025. Through June 30, 2025, anglers in the Columbia River subarea harvested 17,014 pounds (7.72 mt) of the 19,087-pound (8.66-mt) allocation, leaving 2,073 pounds (0.94 mt) remaining (11 percent). Sufficient allocation remains for at least another full day of fishing, therefore the Columbia River subarea will be open Sunday through Friday, August 17 through September 30, 2025, as follows:

• August 17-22, 24-29, and 31;

• September 1-5, 7-12, 14-19, 21-26, and 28-30; or

• until there is not sufficient allocation for another full day of fishing and the area is therefore closed.

Additionally, the Columbia River subarea will receive an allocation transfer from the Oregon Central Coast subarea of 5,000 pounds (2.27 mt).

Oregon Central Coast Subarea

The Oregon Central Coast subarea opened May 1, 2025. Through June 30, 2025, anglers in the Oregon Central Coast subarea harvested 100,562 pounds (45.61 mt). Projections indicate that there is more than a sufficient amount of the 2025 allocation remaining to support fishing in the Oregon subareas through the end of the season, on October 31, 2025. Therefore, NMFS is taking inseason action to transfer 5,000 pounds (2.27 mt) of the Oregon Central Coast subarea's remaining 2025 allocation to the Columbia River subarea. This inseason action is not anticipated to reduce any fishing opportunities in the Oregon subareas.

Classification

NMFS issues this action pursuant to the Northern Pacific Halibut Act of 1982. This action is taken under the regulatory authority at 50 CFR 300.63(c)(6), and is exempt from review under Executive Order 12866.

Pursuant to 5 U.S.C. 553(b)(B), there is good cause to waive prior notice and an opportunity for public comment on this action, as notice and comment would be impracticable and contrary to the public interest. WDFW and ODFW provided updated landings data to NMFS on July 15, 2025, showing that through June 30, 2025, a combined 28 percent of the Columbia River and Washington subareas annual allocation was remaining. Included in the 2025 Area 2A recreational fishing regulations (90 FR 14422) was a provision that, if after June 30, 2025 sufficient allocation remained for at least another full day of fishing in the subareas referenced above, then NMFS may take inseason action to reopen the various fisheries. These conditions have been met and therefore NMFS is taking this inseason action. Because this potential inseason action was part of the rulemaking establishing this year's regulations, this action will not be unexpected by the public, which had previous opportunity to comment on it. In addition, this inseason action is necessary to allow for the Area 2A allocation objectives to be met in accordance with 50 CFR 300.63(c)(6)(i)(A); specifically to increase the opportunity to reach the overall Area 2A recreational fishery allocation. As the Columbia River and Washington subareas close on September 30, 2025, implementing this action through proposed and final rulemaking would undermine the benefit this action is intended to provide to fishery participants. Without timely implementation of additional fishing dates in the Columbia River and Washington subareas, and without a transfer of the Oregon Central Coast subarea allocation to the Columbia River subarea, the overall Area 2A recreational fishery allocation is unlikely to be harvested this year, thus limiting the economic benefits of the fishery to the fishery participants and obstructing the goals of the 2025 Catch Sharing Plan. Further, it is necessary that this rulemaking be implemented in a timely manner, so that proper planning for additional fishing dates can take place, including to allow for business and personal decision making by the regulated public and others impacted by this action, which includes recreational charter fishing operations, associated port businesses, and private anglers who do not live near the fishery's coastal access points, among others. To ensure the regulated public is fully aware of this action, notice of this action will be provided to anglers through a telephone hotline, news release, and by the relevant state Fish and Wildlife agencies. NMFS will receive public comments for 15 days after publication of this action, in accordance with 50 CFR 300.63(c)(6)(iv). No aspect of this action is controversial, and changes of this nature were anticipated in the process described in regulations at 50 CFR 300.63(c).

For the reasons discussed above, there is also good cause under 5 U.S.C. 553(d)(3) to waive the 30-day delay in effective date and make this action effective on August 16, 2025, as a delay in effectiveness of this action would constrain fishing opportunity, be inconsistent with the goals of the 2025 Catch Sharing Plan, and potentially limit the economic opportunity intended by this rule to the associated fishing communities. NMFS regulations allow the Regional Administrator to modify sport fishing periods, bag limits, size limits, days per calendar week, and subarea allocations inseason, when the action supports annual allocation objectives being met, and provided that such action will not result in exceeding the catch limit for a subarea. NMFS recently received information on the progress of landings in the recreational fisheries in the Columbia River and Washington subareas, as well as the Oregon Central Coast subarea, indicating that additional fishing dates in the Columbia River and Washington subareas are warranted and transferring allocation from the Oregon Central Coast subarea to the Columbia River subarea should be implemented to ensure the optimal harvest of the overall Area 2A allocation. As stated above, it is in the public interest that this action not be delayed, because a delay in the effectiveness could prevent the allocation objectives of the recreational Pacific halibut fishery from being met. Finally, NMFS has determined that this rule qualifies for a waiver of the 30-day delay in effective date pursuant to 5 U.S.C. 553(d)(1) because absent the delay in effectiveness participants would otherwise be able to fish on the additional fishing dates implemented in this rule.

Authority: 16 U.S.C. 773-773k.

Dated: August 6, 2025.
Michael P. Ruccio,
Acting Director, Office of Sustainable Fisheries, National Marine Fisheries Service.

[FR Doc. 2025-15198 Filed 8-8-25; 8:45 am]

BILLING CODE 3510-22-P